FEDERAL COMMUNICATIONS COMMISSION

[CC Docket No. 92-237; DA 22-472; FR ID 85412]

Next Meeting of the North American Numbering Council

AGENCY: Federal Communications Commission.

ACTION: Notice.

SUMMARY: In this document, the Commission released a public notice announcing two meetings of the North American Numbering Council (NANC).

DATES: Tuesday, June 14, 2022, and, Monday, August 15, 2022. The meetings will come to order at 2:00 p.m.

ADDRESSES: The meetings will be conducted via video conference and available to the public via the internet at http://www.fcc.gov/live.

FOR FURTHER INFORMATION CONTACT: You may also contact Christi Shewman, Designated Federal Officer, at christi.shewman@fcc.gov or 202-418-0646. More information about the NANC is available at https://www.fcc.gov/about-fcc/advisory-committees/general/north-american-numbering-council.

SUPPLEMENTARY INFORMATION: The NANC meetings are open to the public on the internet via live feed from the FCC's web page at http://www.fcc.gov/live. Open captioning will be provided for this event. Other reasonable accommodations for people with disabilities are available upon request. Requests for such accommodations should be submitted via email to fcc504@fcc.gov or by calling the Consumer and Governmental Affairs Bureau @(202) 418-0530 (voice), (202) 418-0432 (TTY). Such requests should include a detailed description of the accommodation needed. In addition, please include a way for the FCC to contact the requester if more information is needed to fill the request. Please allow at least five days' advance notice for accommodation requests; last minute requests will be accepted but may not be possible to accommodate. Members of the public may submit comments to the NANC in the FCC's Electronic Comment Filing System, ECFS, at www.fcc.gov/ecfs. Comments to the NANC should be filed in CC Docket No. 92-237. This is a summary of the Commission's document in CC Docket No. 92-237, DA 22-22-472, released April 29, 2022.

Proposed Agenda: At the June 14 meeting, the NANC will consider and vote on recommendations from the Numbering Administration Oversight Working Group on reviewing and updating the Statement of Work & Billing and Collection Agent Requirements, which embodies the required functions and operations of the North American Numbering Plan's Billing and Collection Agent; the North American Numbering Plan Billing & Collection Fund Size Projections and Contributions Factor; and an evaluation of the performance of the Billing & Collection Agent, Welch LLP. The NANC will also hear a report from the Billing & Collection Agent, Welch LLP. The NANC will also consider and vote on recommendations from the Call Authentication Trust Anchor Working Group Report and Recommendation to the NANC on Steps to Encourage Adoption of Caller ID Authentication Technology and Other Techniques to Combat Robocalls by Policymakers and Providers in Countries outside of the United States. At the August 15 meeting, the NANC will consider and vote on recommendations from the Numbering Administration Oversight Working Group on the feasibility of individual telephone number pooling trials. The NANC will also hear routine status reports from the Numbering Administration Oversight Working Group, the North American Portability Management, LLC, and the Secure Telephone Identity Governance Authority. Either of these agendas may be modified at the discretion of the NANC Chair and the Designated Federal Officer (DFO). (5 U.S.C. App 2 § 10(a)(2))

Federal Communications Commission.
Pamela Arluk,
Division Chief, Competition Policy Division, Wireline Competition Bureau.

[FR Doc. 2022-10081 Filed 5-10-22; 8:45 am]

BILLING CODE 6712-01-P